DEPARTMENT OF AGRICULTURE

Rural Business-Cooperative Service

Rural Housing Service

Rural Utilities Service

Notice of Solicitation of Applications (NOSA) for the Strategic Economic and Community Development Program for Fiscal Year (FY) 2020; Amendment

AGENCY: Rural Business-Cooperative Service, Rural Housing Service, and Rural Utilities Service, USDA (Rural Development).

ACTION: Notice of Solicitation of Applications; Amendment.

SUMMARY: Rural Development (Agency) published a notice of solicitation of applications in the Federal Register on February 28, 2020, entitled “Notice of Solicitation of Applications (NOSA) for the Strategic Economic and Community Development Program for Fiscal Year (FY) 2020,” to provide applicants with projects eligible for the Strategic Economic and Community Development Program (SECD) the opportunity to apply for funding in FY 2020. After publication of the NOSA for SECD for FY 2020, the Agency found an error in the dates section of the Notice. This notice will correct the DATES section of the NOSA.

FOR FURTHER INFORMATION CONTACT: Please contact your respective Rural Development State Office listed here: http://www.rd.usda.gov/browse-state. For information about this Notice, please contact Kristen Grifka, Innovation Center, Partnership Team, USDA Rural Development, 1400 Independence Avenue SW, Washington, DC 20250. Telephone: (202) 720-5238. Email: Kristen.grifka@usda.gov.

SUPPLEMENTARY INFORMATION: In the Federal Register on February 28, 2020 (85 FR 11947), make the following amendment:

In the second column on page 11947, under DATES amend the language to:

To apply for SECD reserve funds, applicants must submit Form RD 1980-88, “Strategic Economic and Community Development (section 6025)” by the underlying program application deadlines or June 30, 2020, whichever comes first.

Bette B. Brand,
Deputy Under Secretary, Rural Development.

[FR Doc. 2020-05718 Filed 3-18-20; 8:45 am]

BILLING CODE 3410-XY-P